DEPARTMENT OF COMMERCE

Census Bureau

Proposed Information Collection; Comment Request; Redistricting Data Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before April 30, 2018.

ADDRESSES: Direct all written comments to Jennifer Jessup, Departmental Paperwork Clearance Officer, Department of Commerce, Room 6616, 14th and Constitution Avenue NW, Washington, DC 20230 (or via the internet at PRAcomments@doc.gov). You may also submit comments, identified by Docket Number USBC-XXXX-XXXX, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to James Whitehorne, U.S. Census Bureau, 4600 Silver Hill Road, Washington, DC 20233, rdo@census.gov.

SUPPLEMENTARY INFORMATION:

I. Overview

The Redistricting Data Program (RDP) is one of many voluntary geographic data exchange programs that collects boundaries to update the U.S. Census Bureau's geographic database of addresses, streets, and boundaries. The Census Bureau uses its geographic database to link demographic data from surveys and the decennial Census to locations and areas, such as cities, congressional and legislative districts, and counties. To tabulate statistics by localities, the Census Bureau must have accurate addresses and boundaries.

The boundaries collected in the RDP and other geographic programs will create census blocks, which are the building blocks for all Census Bureau geographic boundaries. While the geographic programs differ in requirements, timeframe, and participants, the RDP and the other geographic programs all follow the same basic process:

1. The Census Bureau invites eligible participants to the program. For the RDP, we invite nonpartisan state liaisons appointed by the legislative leadership of each state.

2. If they elect to participate in the program, participants receive a digital copy of the boundaries the Census Bureau has on file. Participants review the boundaries and update them if needed. RDP participants can choose to review and provide their boundary updates using a free customized mapping software, or using their own mapping software.

3. Participants return their updates to the Census Bureau.

4. The Census Bureau updates its geographic database with boundary updates from participants.

5. The Census Bureau uses the newly updated boundaries and addresses to tabulate statistics.

II. Abstract

The Census Bureau is requesting a three-year clearance for the Fiscal Year (FY) 2019 through 2021 to continue the phases of the 2020 Census RDP Operation. The current three-year RDP clearance and the project specific Office of Management and Budget (OMB) Control Number 0607-0988 will expire in November 2018. The new clearance allows the Census Bureau to provide RDP-specific materials, procedures, and burden hours to the liaisons from the 50 states, the District of Columbia, and Puerto Rico to complete two rounds of verification of the Voting District Project (VTDP), Phase 2, in 2019 and 2020. The RDP has added a second round of VTDP verification in 2020, resulting in an increase of 4,836 hours in total burden from the burden described in the previously-approved OMB package. Leading up to the decennial census, many geographies are changing simultaneously and consequently may affect the Voting District (VTD) geography. This second verification is necessary to make sure that VTD geographies are up-to-date and align with decennial geography. The Census Bureau will deliver the 2020 Census Redistricting Data (Phase 3) by April 1, 2021. RDP is executed under the provisions of Title 13, Section 141(c) of the United States Code (U.S.C.).

Under the provisions of Public Law 94-171, as amended (Title 13, United States Code (U.S.C.), Section 141(c)), the Director of the Census Bureau is required to provide the “officers or public bodies having initial responsibility for the legislative apportionment or districting of each state . . .” with the opportunity to specify geographic areas (e.g., Voting Districts (VTDs), wards, and election precincts) for which they wish to receive decennial census population counts for the purpose of reapportionment or redistricting.

III. Method of Collection

The Census Bureau develops and uses different methods to collect data from program participants. The Census Bureau issued invitation letters by mail (U.S. Postal Service) and follow-up emails to the officers or public bodies having initial responsibility for legislative reapportionment and redistricting. The 50 states, the District of Columbia, and the Commonwealth of Puerto Rico have identified non-partisan liaisons that are already working directly with the Census Bureau on the 2020 Census RDP.

In addition, to begin work on Phase 1 and Phase 2, the Census Bureau provides to states:

1. Data from the Master Address File/Topologically Integrated Geographic Encoding and Referencing system.

2. The Geographic Update Program Software (GUPS), an optional software tool.

3. The procedures necessary for each state to participate.

States are not required to use GUPS, but they have to submit their submission to the Census Bureau electronically in Census Bureau-specified formats. During the submission period, the Census Bureau provides training in the use of GUPS and assists the states in understanding the procedures necessary for processing files for their submission.

State liaisons have participated and/or will continue to provide inputs in the following phases of the program:

Phase 1: Block Boundary Suggestion Project (BBSP) (2015-2017)

Between 2015 and 2017, the Census Bureau collaborated with each state liaison to collect and verify suggestions for 2020 Census tabulation blocks through the BBSP. The purpose of the BBSP was to afford states the opportunity to identify non-standard features often used as electoral boundaries (such as a power line or stream, rather than a street centerline, which might divide voters on the same street into two districts) for use as 2020 Census tabulation block boundaries. For the first time, states also had the opportunity to review legal limits, such as county and incorporated place boundaries, as reported through the Boundary and Annexation Survey (BAS). The Census Bureau conducts the BAS annually to update information about the legal boundaries and names of all governmental units. The alignment of the BAS with the BBSP facilitated the cooperation between state and local governments. States that chose to participate in Phase 1 received guidelines and training for providing their suggestions.

Phase 2: Voting District Project (VTDP) (2018-2020)

The VTDP is the second phase of the RDP operation. During this phase, states are able to submit their VTD boundaries and to suggest legal boundary updates to the Census Bureau. In addition, state liaisons who participated in the delineation have two opportunities to verify the submitted VTDs prior to release of the 2020 Census redistricting data tabulations, which occurs in Phase 3. VTDP delineation occurs between January and May 2018 and is included in the current OMB clearance. VTDP verifications occur in early 2019 and early 2020.

• VTDs Delineation (2018)

States that choose to participate in VTDP receive geographic products that allow them the opportunity to update the VTDs for inclusion in the 2020 Census tabulation geography. State liaisons also have the option to continue to align their effort with updates from state and local government officials participating in the BAS. The VTD/BAS updates continue through May 2018.

• VTDs Verification (2019 and 2020)

The Census Bureau will conduct two rounds of verification of the VTDs. The Census Bureau will perform an initial VTD verification between December 2018 and May 2019. Leading up to the decennial census, many geographies are changing simultaneously and subsequently may affect the VTD geography. In order to provide current VTDs to the states that align better with decennial geography, a second round of verification will occur between December 2019 and March 2020 for states that participated in the initial delineation and first verification.

Participation in the 2020 Census RDP Phases 1 (BBSP) and 2 (VTDP), under Title 13, U.S.C., is voluntary. However, the Census Bureau cannot ensure that the 2020 Census tabulation geography will support the redistricting needs of a state that has chosen not to participate in Phase 1 and Phase 2.

Phase 3: Delivery of the 2020 Census Redistricting Data (2021)

By April 1, 2021, the Director of the Census Bureau will, in accordance with Title 13, U.S.C., furnish the Governor and state legislative leaders, both the majority and minority, and any public bodies responsible for legislative redistricting, with 2020 Census population counts for standard census tabulation areas (e.g., states, Congressional districts, state legislative districts, American Indian areas, counties, cities, towns, census tracts, census block groups, and census blocks) regardless of a state's participation in Phase 1 or 2. The Director of the Census Bureau will provide 2020 Census population counts for those states participating in Phase 2, for both the standard tabulation areas and for VTDs. For each state, this delivery will occur no later than April 1, 2021.

Phase 4: Collection of Post-Census Redistricting Data Plans (2011-2022)

• 2010 Census

Beginning in 2011 and every two years thereafter, the Census Bureau solicits from each state the newly drawn legislative and Congressional district plans and prepares appropriate data tabulations based on the new districts. From November 2015 through May 2016, the Census Bureau completed the data collection and verification of the 115th Congressional Districts (CDs) and 2016 State Legislative Districts (SLDs). The 116th CDs and SLDs collection and verification will occur between November 2017 and May 2018. The Census Bureau is not planning to collect the 117th CDs and SLDs in 2020.

• 2020 Census

Between November 2021 and May 2022, the Census Bureau will solicit from each state the boundaries of the newly drawn 118th CDs and 2022 SLDs. This effort will occur every two years in advance of the 2030 Census in order to update these boundaries with new or changed plans. A verification phase will occur with each update.

Phase 5: Review of the 2020 Census RDP and Recommendations for the 2030 Census RDP (2020 Post-Data Collection)

As the final phase of the 2020 Census RDP, the Census Bureau will work with the states to conduct a thorough review of the RDP. The intent of this review, and the final report that results, is to provide guidance to the Secretary and the Census Bureau Director in planning the 2030 Census RDP.

IV. Data

OMB Control Number: 0607-0988.

Form Number(s): Not available.

Type of Review: Regular submission.

Affected Public: All 50 states, the District of Columbia, and the Commonwealth of Puerto Rico.

Estimated Number of Respondents: 52.

Estimated Time per Response: 72 hours.

Estimated Burden Hours (Information Collection Renewal—FY 2019-2021): 11,284.

Phases/activities | Estimated total hour burden per fiscal year (FY): Currently approved OMB: 2016 | Estimated total hour burden per fiscal year (FY): Currently approved OMB: 2017 | Estimated total hour burden per fiscal year (FY): Currently approved OMB: 2018 | Estimated total hour burden per fiscal year (FY): Renewal: 2019 | Estimated total hour burden per fiscal year (FY): Renewal: 2020 | Estimated total hour burden per fiscal year (FY): Renewal: 2021
BBSP Annotation Phase 1 | 6,448 |  |  |  |  |
BBSP Verification Phase 2 |  | 3,224 |  |  |  |
VTDP Delineation Phase 1 |  |  | 12,896 |  |  |
VTDP Delineation round one |  |  |  | 6,448 |  |
VTDP Verification round two |  |  |  |  | 4,836 |
Total Estimated Hour Burden | 22,984 |  |  | 11,284

Estimated Total Annual Burden Hours: 3,761.

Estimated Total Annual Cost to Public: $0.

Respondent's Obligation: Voluntary.

Authority: Legal Authority:

Title 13, U.S.C., Sections 16, 141, and 193.

V. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department Lead PRA Officer, Office of the Chief Information Officer.

[FR Doc. 2018-04156 Filed 2-28-18; 8:45 am]

BILLING CODE 3510-07-P